DEPARTMENT OF ENERGY

Federal Energy Regulatory Commission

[Docket No. EC04-39-000, et al.]

Duke Energy Trading and Marketing, L.L.C., et al.; Electric Rate and Corporate Filings

December 31, 2003.

The following filings have been made with the Commission. The filings are listed in ascending order within each docket classification.

1. Duke Energy Trading and Marketing, L.L.C.

[Docket No. EC04-39-000]

Take notice that on December 19, 2003, Duke Energy Trading and Marketing, L.L.C. (DETM) filed with the Federal Energy Regulatory Commission an application pursuant to section 203 of the Federal Power Act for authorization of the transfer by DETM of certain wholesale power contracts to Morgan Stanley Capital Group Inc.

Comment Date: January 13, 2004.

2. Duke Energy Vermillion, L.L.C.

[Docket Nos. EC04-41-000 and ER04-320-000]

Take notice that on December 19, 2003, Duke Energy Vermillion, L.L.C. (Duke Vermillion) filed with the Federal Energy Regulatory Commission an application pursuant to section 203 of the Federal Power Act (FPA) for authorization to transfer an undivided ownership interest to Wabash Valley Power Association, Inc. (Wabash) of FPA-jurisdictional interconnection facilities and related books and records associated with the proposed sale to Wabash of a 25% undivided ownership interest in Duke Vermillion's approximately 648 MW generation facility located in Vermillion County, Indiana (the Transaction).

Duke Vermillion requests confidential treatment for the documents contained in Exhibit I of the section 203 application. Duke Vermillion also tendered for filing pursuant to section 205 of the FPA as a rate schedule an ownership and operation agreement that Duke Vermillion and Wabash will enter into a closing which will govern the joint ownership and operation of the Facility. Duke Vermillion requests that the ownership and operation agreement rate schedule not become effective until the date the Transaction closes.

Comment Date: January 9, 2004.

3. Cargill Power Markets, L.L.C. v. Midwest Independent Transmission System Operator, Inc.

[Docket No. EL04-46-000]

Take notice that on December 29, 2003, Cargill Power Markets, L.L.C. (CPM), filed a complaint against Midwest Independent Transmission System Operator, Inc. (MISO). CPM alleges that MISO has violated its open access transmission tariff and Commission policy when processing its queue when eligible customers have submitted competing transmission service requests for transmission capacity over certain congested facilities for which incumbent transmission customers have exercised their “rollover rights.” CPM states that the complaint was served on MISO on December 29, 2003.

Comment Date: January 20, 2004.

4. TECO Energy Soures, Inc., Panda Gila River, L.P., TECO PANDA Generating Co., L.P., TPS Dell, L.L.C., TPS McAdams, L.L.C., Union Power Partners, L.P.

[Docket Nos. ER96-1563-018, ER01-931-003, ER02-1000-002, ER02-510-001, ER02-507-001, and ER01-930-003]

Take notice that on December 17, 2003, the above referenced companies, tendered a compliance filing in accordance with the Commission's Order issued November 17, 2003, in Docket Nos. EL01-118-000 and 001, Investigation of Terms and Conditions of Public Utility Market-Based Rate Authorization, 105 FERC ¶ 61,218 (2003).

Comment Date: January 14, 2004.

5. Oklahoma Gas And Electric Company, OGE Energy Resources, Inc.

[Docket Nos. ER98-511-002 and ER97-4345-014]

Take notice that on December 22, 2003, Oklahoma Gas and Electric Company and OGE Energy Resources, Inc., energy affiliates, jointly filed a triennial market power update in support of their market pricing authority. In addition, they submitted revised versions of their market based rate tariffs in accordance with the Commission's Order issued November 17, 2003, in Docket Nos. EL01-118-000 and 001.

Comment Date: January 14, 2003.

6. Southern Company Services, Inc.

[Docket No. ER02-851-013]

Take notice that on December 16, 2003, Southern Company Services, Inc. tendered for filing revisions of a calculation concerning the payment of Settlement refunds submitted in Docket No. ER02-851-013 on November 21, 2003.

Comment Date: January 6, 2003.

7. Chanarambie Power Partners, L.L.C.

[Docket No. ER03-1340-003]

Take notice that on December 22, 2003, Chanarambie Power Partners, L.L.C., revised the effective date of pages 2 and 3 of its market-based wholesale power sales tariff filed in December 19, 2003, in ER03-1340-002.

Comment Date: January 12, 2004.

8. Progress Energy, Inc. on behalf of Florida Power Corporation

[Docket No. ER03-1402-001]

Take notice that on December 22, 2003, Florida Power Corporation (FPC) tendered for filing in compliance with Commission's Order issued November 28, 2003, revisions to their Operating Agreement between FPC d/b/a/ Progress Energy Florida, Inc. and Gainesville Regional Utilities.

FPC states that a copy of this filing was served upon the Florida Public Service Commission and the North Carolina Utilities Commission.

Comment Date: January 12, 2004.

9. FPL Energy VG Repower Wind, L.L.C.

[Docket No. ER04-167-000]

Take notice that on December 22, 2003, FPL Energy VG Repower Wind, L.L.C. tendered for filing a withdrawal of its Application for Market-based Rate Authority filed on November 5, 2003.

Comment Date: January 12, 2004.

10. FPL Energy 251 Wind, L.L.C.

[Docket No. ER04-168-000]

Take notice that on December 22, 2003, FPL Energy 251 Wind, LLC tendered for filing a withdrawal of its Application for Market-based Rate Authority filed on November 5, 2003.

Comment Date: January 12, 2004.

11. Delmarva Power & Light Company

[Docket No. ER04-188-001]

Take notice that on December 22, 2003, Delmarva Power & Light Company (Delmarva) tendered for filing a revised executed Interconnection Agreement (the Revised Lewes IA) with the City of Lewes, Delaware (Lewes).

Delmarva states that copies of the filing were served upon the City of Lewes and the Delaware Public Service Commission.

Comment Date: January 12, 2004.

12. Unitil Resources, Inc.

[Docket No. ER04-319-000]

Take notice that on December 22, 2003, Unitil Resources, Inc. (URI) filed a Notice of Cancellation with the Federal Energy Regulatory Commission pursuant to sections 35.15 and 131.53 of the Commission's rules and regulations, 18 CFR 35.15 and 131.53. URI seeks to cancel its rate schedule for power sales at market-based rates, designated as Rate Schedule FERC No. 1. URI requests that the cancellation be made effective as of December 23, 2003.

Comment Date: January 12, 2004.

13. Gilroy Energy Center, LLC

[Docket No. ER04-321-000]

On December 22, 2003, Gilroy Energy Center, LLC (Gilroy) filed an unexecuted Must-Run Service Agreement and accompanying schedules (RMR Agreement) between Gilroy and the California Independent System Operator Corporation (ISO) setting forth the rates, terms and conditions under which Gilroy will provide reliability must-run services to the ISO.

Comment Date: January 12, 2004.

14. Portland General Electric Company

[Docket No. ER03-322-000]

Take notice that on December 22, 2003, Portland General Electric Company (PGE) filed revised tariff sheets to its Open Access Transmission Tariff. PGE states that the revised sheets are intended to: (1) Describe Retail Network Integration Transmission Service to facilitate open access service in the PGE's service area; and (2) set forth the rates for the Retail Network Integration Transmission Service. PGE requests an effective date of March 1, 2004.

Comment Date: January 12, 2004.

15. Los Esteros Critical Energy Facility, LLC

[Docket No. ER04-323-000]

On December 22, 2003, Los Esteros Critical Energy Facility, LLC (Los Esteros) filed an unexecuted Must-Run Service Agreement and accompanying schedules (RMR Agreement) between Los Esteros and the California Independent System Operator Corporation (ISO) setting forth the rates, terms and conditions under which Los Esteros will provide reliability must-run services to the ISO.

Comment Date: January 12, 2004.

16. Creed Energy Center, LLC

[Docket No. ER04-324-000]

On December 22, 2003, Creed Energy Center, LLC (Creed) filed an unexecuted Must-Run Service Agreement and accompanying schedules (RMR Agreement) between Creed and the California Independent System Operator Corporation (ISO) setting forth the rates, terms and conditions under which Creed will provide reliability must-run services to the ISO.

Comment Date: January 12, 2004.

17. Goose Haven Energy Center, LLC

[Docket No. ER04-325-000]

On December 22, 2003, Goose Haven Energy Center, LLC (Goose Haven) filed an unexecuted Must-Run Service Agreement and accompanying schedules (RMR Agreement) between Goose Haven and the California Independent System Operator Corporation (ISO) setting forth the rates, terms and conditions under which Goose Haven will provide reliability must-run services to the ISO.

Comment Date: January 12, 2004.

18. New England Power Pool

[Docket No. ER04-331-000]

Take notice that on December 24, 2003, the New England Power Pool (NEPOOL) Participants Committee filed the One Hundred First Agreement Amending New England Power Pool Agreement (the Amendment) which modifies prospectively how NEPOOL expenses are to be shared among members of the Generation and Supplier Sectors. NEPOOL has requested that the Amendment become effective as of January 1, 2004.

The NEPOOL Participants Committee states that copies of these materials were sent to the NEPOOL Participants and the New England state governors and regulatory commissions.

Comment Date: January 14, 2004.

19. Southeast Chicago Energy Project, LLC

[Docket No. ER04-333-000]

Take notice that on December 22, 2003, Southeast Chicago Energy Project, LLC (Southeast Chicago) tendered for filing an amendment to its cost-based rate wholesale power sales agreement between Southeast Chicago and Exelon Generation Company, LLC, to provide Black Start Service.

Comment Date: January 12, 2004.

20. PPL Electric Utilities Corporation

[Docket No. ES04-1-002]

Take notice that on December 31, 2003, PPL Electric Utilities Corporation, submitted further information in support of its application filed on October 10, 2003, pursuant to section 204 of the Federal Power Act, seeking authorization to issue short-term debt in an aggregate face amount not to exceed $600 million.

Comment Date: January 9, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-36 Filed 1-9-04; 8:45 am]

BILLING CODE 6717-01-P